DEPARTMENT OF ENERGY

Federal Energy Regulatory Commission

Combined Notice of Filings

Take notice that the Commission has received the following Natural Gas Pipeline Rate and Refund Report filings:

Filings Instituting Proceedings

Docket Number: PR19-14-000.

Applicants: Louisville Gas and Electric Company.

Description: Tariff filing per 284.123(b),(e)/: Revised Statement of Operating Conditions DDC and LAUFG to be effective 11/1/2018.

Filed Date: 11/13/18.

Accession Number: 201811135011.

Comments/Protests Due: 5 p.m. ET 12/4/18.

Docket Number: PR19-15-000.

Applicants: Alpine High Pipeline LP.

Description: Tariff filing per 284.123(b),(e)+(g): Revised Statement of Operating Conditions to be effective 11/1/2018.

Filed Date: 11/13/18.

Accession Number: 201811135267.

Comments Due: 5 p.m. ET 12/4/18.

284.123(g) Protests Due: 5 p.m. ET 1/14/19.

Docket Number: PR19-16-000.

Applicants: Lee 8 Storage Partnership.

Description: Tariff filing per 284.123(b)(2)+(g): Petition for Rate Approval to be effective 11/14/2018.

Filed Date: 11/14/18.

Accession Number: 201811145042.

Comments Due: 5 p.m. ET 12/5/18.

284.123(g) Protests Due: 5 p.m. ET 1/14/19.

Docket Number: PR19-17-000.

Applicants: Black Hills Energy Arkansas, Inc.

Description: Tariff filing per 284.123(b),(e)/: BHEA SOC Filing to be effective 11/15/2018.

Filed Date: 11/15/18.

Accession Number: 201811155052.

Comments/Protests Due: 5 p.m. ET 12/6/18.

Docket Number: PR19-18-000.

Applicants: Rocky Mountain Natural Gas LLC.

Description: Tariff filing per 284.123(b),(e)/: RMNG Revised SOC Filing to be effective 11/1/2018.

Filed Date: 11/15/18.

Accession Number: 201811155053.

Comments/Protests Due: 5 p.m. ET 12/6/18.

Docket Numbers: RP19-297-000.

Applicants: Texas Eastern Transmission, LP.

Description: eTariff filing per 1430: TETLP Extension to file Form 501-G.

Filed Date: 11/16/18.

Accession Number: 20181116-5177.

Comments Due: 5 p.m. ET 11/21/18.

Docket Numbers: RP19-298-000.

Applicants: Columbia Gas Transmission, LLC.

Description: § 4(d) Rate Filing: WBX East Amendments Filing to be effective 11/16/2018.

Filed Date: 11/16/18.

Accession Number: 20181116-5179.

Comments Due: 5 p.m. ET 11/28/18.

Docket Numbers: RP19-299-000.

Applicants: Transcontinental Gas Pipe Line Company, LLC.

Description: § 4(d) Rate Filing: Gulf Connector Initial Rate Filing—REV to be effective 12/1/2018.

Filed Date: 11/19/18.

Accession Number: 20181119-5000.

Comments Due: 5 p.m. ET 12/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2018.
Nathaniel J. Davis, Sr.,
Deputy Secretary.

[FR Doc. 2018-25760 Filed 11-26-18; 8:45 am]

BILLING CODE 6717-01-P